DEPARTMENT OF ENERGY

Federal Energy Regulatory Commission

Combined Notice of Filings No. 1

September 4, 2009.

Take notice that the Commission received the following electric rate filings:

Docket Numbers: ER09-1281-001.

Applicants: California Independent System Operator Corporation.

Description: California Independent System Operator Corporation submits Attachment A—Distributed Load Reference Bus Revisions etc.

Filed Date: 09/03/2009.

Accession Number: 20090903-0205.

Comment Date: 5 p.m. Eastern Time on Thursday, September 24, 2009.

Docket Numbers: ER09-1577-001.

Applicants: California Independent System Operator Corporation.

Description: California Independent System Operator Corporation submits Modification of Amendment No 5 to Rate Schedule No 42.

Filed Date: 09/03/2009.

Accession Number: 20090904-0058.

Comment Date: 5 p.m. Eastern Time on Thursday, September 24, 2009.

Docket Numbers: ER09-1578-001.

Applicants: California Independent System Operator Corporation.

Description: California Independent System Operator Corporation submits Modification of Amendment No 1 to Rate Schedule No 61.

Filed Date: 09/03/2009.

Accession Number: 20090904-0059.

Comment Date: 5 p.m. Eastern Time on Thursday, September 24, 2009.

Docket Numbers: ER09-1606-001.

Applicants: Wisconsin Public Service Corporation, Interstate Power & Light Company.

Description: Interstate Power and Light Company et al. submit revisions to the Local Balancing Authority Area Operations Coordination Agreement.

Filed Date: 09/03/2009.

Accession Number: 20090903-0150.

Comment Date: 5 p.m. Eastern Time on Thursday, September 24, 2009.

Docket Numbers: ER09-1641-000.

Applicants: Idaho Power Company.

Description: Idaho Power Company's 2009-2010 Annual Informational filing.

Filed Date: 08/28/2009.

Accession Number: 2009-0828-5128.

Comment Date: 5 p.m. Eastern Time on Friday, September 18, 2009.

Docket Numbers: ER09-1674-000.

Applicants: PacifiCorp.

Description: PacifiCorp submits notice of cancellation for service agreement No 277 to its Seventh Revised Volume No 11 open access transmission tariff.

Filed Date: 09/02/2009.

Accession Number: 20090903-0119.

Comment Date: 5 p.m. Eastern Time on Wednesday, September 23, 2009.

Docket Numbers: ER09-1675-000.

Applicants: Florida Power Corporation.

Description: Florida Power Corporation submits First Revised Rate Schedule FERC No 106 agreement between Progress and Seminole Electric Cooperative, Inc for supplemental resale service.

Filed Date: 09/02/2009.

Accession Number: 20090903-0118.

Comment Date: 5 p.m. Eastern Time on Wednesday, September 23, 2009.

Docket Numbers: ER09-1676-000.

Applicants: Southern Company Services, Inc.

Description: Southern Company Services, Inc submits Revision No 3 to Agreement for Network Integration Transmission Service for Alabama Municipal Electric Authority to the Open Access Transmission Tariff of Southern Companies.

Filed Date: 09/03/2009.

Accession Number: 20090903-0204.

Comment Date: 5 p.m. Eastern Time on Thursday, September 24, 2009.

Docket Numbers: ER09-1677-000.

Applicants: Big Sky Wind, LLC.

Description: Big Sky Wind, LLC submits petition for order accepting market based rate tariff and granting waivers and blanket approvals.

Filed Date: 09/03/2009.

Accession Number: 20090904-0060.

Comment Date: 5 p.m. Eastern Time on Thursday, September 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-22104 Filed 9-14-09; 8:45 am]

BILLING CODE 6717-01-P